DEPARTMENT OF TRANSPORTATION

Surface Transportation Board

[STB Docket No. AB-32 (Sub-No. 93X), STB Docket No. 355 (Sub-No. 31X)]

Boston and Maine Corporation—Discontinuance of Service Exemption—in Suffolk County, MA; Springfield Terminal Railway Company—Discontinuance of Service Exemption—in Suffolk County, MA

On March 11, 2005, the Boston and Maine Corporation (B&M) and Springfield Terminal Railway Company (ST) jointly filed with the Board a petition under 49 U.S.C. 10502 for exemption from the provisions of 49 U.S.C. 10903. B&M and ST seek to discontinue service over a line of railroad known as the Mystic Wharf Branch, extending from milepost 0.0 to milepost 1.45 in Suffolk County, MA.¹ The line traverses U.S. Postal Service ZIP Code 02129 and includes no stations.

¹ In 2003, B&M sold the underlying real estate, track and related structures of the Mystic Wharf Branch to the Massachusetts Port Authority (Massport), and retained a perpetual easement to perform rail service. Massport also entered into an operating agreement with B&M and ST for ST to provide rail service on the line. See Massachusetts Port Authority—Acquisition Exemption—Certain Assets of Boston and Maine Corporation, STB Finance Docket No. 34276 (STB served Mar. 25, 2003). Because B&M is seeking authority only to discontinue service over the line, B&M remains obligated to seek abandonment authority to extinguish fully its common carrier rights and obligations under the perpetual easement.

The line does not contain federally granted rights-of-way. Any documentation in the possession of B&M will be made available promptly to those requesting it.

The interest of railroad employees will be protected by the conditions set forth in Oregon Short Line R.Co.—Abandonment—Goshen, 360 I.C.C. 91 (1979).

By issuing this notice, the Board is instituting an exemption proceeding pursuant to 49 U.S.C. 10502(b). A final decision will be issued by June 29, 2005.

Any offer of financial assistance (OFA) under 49 CFR 1152.27(b)(2) will be due no later than 10 days after service of a decision granting the petition for exemption. Each OFA must be accompanied by a $1,200 filing fee. See 49 CFR 1002.2(f)(25).²

² Because this is a discontinuance proceeding and not an abandonment, trail use/rail banking and public use conditions are not appropriate. Likewise, no environmental or historic documentation is required under 49 CFR 1105.6(c) and 1105.8.

All filings in response to this notice must refer to STB Docket Nos. AB-32 (Sub-No. 93) and AB-355 (Sub-No. 31X), and must be sent to: (1) Surface Transportation Board, 1925 K Street, NW., Washington, DC 20423-0001, and (2) Katherine E. Potter, Law Department, Iron House Park, North Billerica, MA 01862. Replies to the petition are due on or before April 20, 2005.

Persons seeking further information concerning discontinuance procedures may contact the Board's Office of Public Services at (202) 565-1592 or refer to the full abandonment or discontinuance regulations at 49 CFR part 1152. Questions concerning environmental issues may be directed to the Board's Section of Environmental Analysis at (202) 565-1539. [Assistance for the hearing impaired is available through the Federal Information Relay Service (FIRS) at 1-800-877-8339.]

Board decisions and notices are available on our Web site at http://www.stb.dot.gov.

Decided: March 22, 2005.
By the Board, David M. Konschnik, Director, Office of Proceedings.
Vernon A. Williams,
Secretary.

[FR Doc. 05-6129 Filed 3-28-05; 8:45 am]

BILLING CODE 4915-01-P